DEPARTMENT OF LABOR

Employment and Training Administration

[TA-W-37,333]

S. Bent & Bros., Inc. Gardner, MA; Notice of Termination of Investigation

Pursuant to Section 221 of the Trade Act of 1974, an investigation was initiated on February 14, 2000, in response to a worker petition which was filed by IUE Local 154-136B FW, on behalf of workers at S. Bent & Bros., Inc., Gardner, Massachusetts.

The petitioner has requested that the petition be withdrawn. Consequently, further investigation in this case would serve no purpose, and the investigation has been terminated.

Signed in Washington, D.C. this 4th day of April, 2000.
Grant D. Beale,
Program Manager, Division of Trade Adjustment Assistance.

[FR Doc. 00-9523 Filed 4-14-00; 8:45 am]

BILLING CODE 4510-30-M